FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 012443-003.

Agreement Name: Hyundai Glovis/Sallaum Cooperative Working Agreement.

Parties: Hyundai Glovis Co., Ltd. and Sallaum Lines Switzerland S.A.

Filing Party: Wayne Rohde; Cozen O'Connor.

Synopsis: The amendment changes the Sallaum entity that is a party to the Agreement and updates its address.

Proposed Effective Date: 6/21/2020.

Location: https://www2.fmc.gov/FMC.Agreements.Web/Public/AgreementHistory/1921.

Dated: May 14, 2020.
Rachel Dickon,
Secretary.

[FR Doc. 2020-10771 Filed 5-18-20; 8:45 am]

BILLING CODE 6730-02-P